DEPARTMENT OF LABOR

Employment and Training Administration

[TA-W-36,453; TA-W-36,453A]

Diamond Offshore Drilling, Inc. Houston, Texas (Operating at Various Offshore Drilling Sites Located In American Waters) and Diamond Offshore Management Co. (Operating at Various Locations In Louisiana)

In accordance with section 223 of the Trade Act of 1974 (19 U.S.C. 2273) the Department of Labor issued a Certification of Eligibility to Apply for Worker Adjustment Assistance on July 13, 1999, applicable to workers of Vinson Timber Products, Inc., Trout Creek, Montana. The notice was published in the Federal Register on August 11, 1999 (64 FR 43724).

At the request of the State agency, the Department reviewed the certification for workers of the subject firm. The workers are engaged in the exploration and drilling of crude oil and natural gas. Findings show that workers separated from employment at Diamond Offshore Drilling, Inc., operating at various locations in the State of Louisiana, had their wages reported under a separate unemployment insurance (UI) tax account for Diamond Offshore Management Company.

The intent of the Department's certification is to include all workers of Diamond Offshore Drilling, Inc. who were adversely affected by increased imports. Accordingly, the Department is amending the certification to reflect this matter.

The amended notice applicable to TA-W-36,453 is hereby issued as follows:

All workers of Diamond Offshore Drilling, Inc., Houston, Texas and operating at various offshore drilling sites located in American waters and Diamond Offshore Management Company, operating at various locations in the State of Louisiana who became totally or partially separated from employment on or after June 6, 1998 through July 13, 2001 are eligible to apply for adjustment assistance under section 223 of the Trade Act of 1974.

Signed at Washington, D.C. this 6th day of March, 2001.
Linda G. Poole,
Certifying Officer, Division of Trade Adjustment Assistance.

[FR Doc. 01-6963 Filed 3-20-01; 8:45 am]

BILLING CODE 4510-30-M